POSTAL SERVICE

39 CFR Part 111

Express Mail Domestic Postage Refund Policy and Waiver of Signature

AGENCY: Postal Service™.

ACTION: Final rule.

SUMMARY: The Postal Service is revising Mailing Standards of the United States Postal Service, Domestic Mail Manual (DMM®) throughout various sections to modify the policy for filing claims for domestic Express Mail® postage refunds from 90 days to 30 days after the date of mailing, and to change the Express Mail “waiver of signature” standard for domestic items by obtaining an addressee's signature only when the mailer selects the “signature required” option on the Express Mail label.

DATES: Effective Date: January 22, 2012.

FOR FURTHER INFORMATION CONTACT: Lisa Bobb-Semple at (202) 268-3391 or Garry Rodriguez (202) 268-7281.

SUPPLEMENTARY INFORMATION: On October 6, 2011, the Postal Service published a Federal Register proposed rule (76 FR 62000-62002) inviting comments on revisions to the standards for Express Mail to modify the policy for filing claims for domestic Express Mail postage and to change the Express Mail “waiver of signature” standard for domestic items. The Postal Service received several comments in response to this proposed rule that are summarized later in this notice.

The Postal Service is revising the DMM to align the refund policy for domestic Express Mail with the industry standard for overnight products by requiring all claims for postage refunds to be filed within 30 days of the date of mailing instead of the current filing timeline of 90 days.

Additionally, in conjunction with the implementation of the January 2012 redesigned Express Mail Label 11-B and Label 11-F, Express Mail Post Office to Addressee, the Postal Service is modifying both labels, by eliminating the “waiver of signature” check box. A customer sending an Express Mail item, and requiring an addressee's signature, must select the new “signature required” box on the new Express Mail label. If the box is not selected, the Postal Service will not obtain a signature from the addressee upon delivery of Express Mail Next Day Delivery and Express Mail Second Day Delivery items. Instead, the carrier will scan the barcode and leave the item in the customer's mail receptacle or other secure location to document delivery.

Express Mail Hold For Pickup service always requires the signature of the addressee or addressee's agent. Therefore, the Express Mail Label 11-HFPU, Express Mail Hold For Pickup, will not be modified to reflect the new “signature required” option.

Comments

Five comments were received regarding the proposed rule, addressing multiple issues.

Three commenters expressed concern over the change to modify the policy for filing claims for domestic Express Mail postage from 90 days to 30 days. Two of the commenters voiced concern that 30 days is too short for commercial mailers and mailing agents. A 30-day limit on the sender's request for a refund is longer than the current industry standard. Data shows refund requests received outside of the 30-day limit are currently the exception. The change to a 30-day submission limit encompasses only the mailer request for refunds due to a failure to deliver Express Mail shipments on time. The current process for validating account charges and identifying corrections or adjustments that may be necessary will not change.

One commenter provided an interpretation of how the new Express Mail Label 11-B and 11-F, dated January 2012, and the labels printed prior to January 2012 will be used. The interpretation was correct. Effective January 22, 2012, when a customer uses a new Label 11-B or Label 11-F, a signature will only be obtained if the “signature required” check box is marked. When a customer uses a Label 11-B or Label 11-F printed prior to January 2012, a signature will be required unless the “waiver of signature” check box is marked.

The same commenter had three additional questions:

1. What is the recourse when a signature is requested and is not obtained or the piece is not delivered? Customers are encouraged to apply for the postage refund when a service expected is not rendered. Under these circumstances, a postage refund will continue to be considered on a case-by-case basis.

2. Will scanning on delivery still be required? The scan procedures will not change. A delivered scan event is required to be entered even when the addressee signature is not required, as it is today when the signature is waived. When the delivering employee indicates that a signature is not required (waived), there is no scan of the PS Form 3849 and the customer will only receive the delivery date when accessing the delivery record on USPS.com.

3. How will the occasional Express Mail user be made aware of the requirement that articles with additional insurance must be signed for? If the signature box is not checked, how will the employee delivering the mailpiece determine insurance was chosen? Both the current label and the new label clearly indicate that a signature is required when additional insurance is purchased. The postal software automatically requires a signature if additional insurance is purchased today. A retail associate will also be required to advise the customer that a signature is required when additional insurance is purchased during a retail window transaction. Because insurance claims are not handled by delivery employees, they will not need to determine if additional insurance has been purchased.

Two commenters supported the proposed change to the Express Mail postage refund policy and one of the commenters also supported the change to eliminate the waiver of signature option and require a customer to select the new “signature required” box on the Express Mail label.

One commenter also recommended changes to the 5-day holding period for unclaimed Express Mail pieces. The Postal Service has determined that this suggestion is outside the scope of this final rule, but may take the suggestion under consideration for a future rule.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

100 Retail Letters, Cards, Flats, and Parcels

* * * * *

110 Express Mail

113 Prices and Eligibility

* * * * *

4.0 Service Features of Express Mail

4.1 General

[Revise the text of 4.1 by combining the introductory text and text of item a and deleting item b in its entirety as follows:]

Customers may access delivery information at www.usps.com or by calling 1-(800) 222-1811 toll-free and providing the article number. A delivery record, including the addressee's signature, will be faxed or mailed upon request. See 115.2.2 for more information regarding the addressee's signature.

* * * * *

115 Mail Preparation

* * * * *

2.0 Express Mail Next Day and Second Day

* * * * *

2.2 Waiver of Signature

[Revise the first sentence of 2.2 as follows:]

For editions of Express Mail Label 11-B or Label 11-F, Express Mail Post Office to Addressee, printed before January 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber current item 2.3 as 2.4 and add new 2.3 as follows:]

2.3 Signature Required

For editions of Express Mail Label 11-B or Label 11-F printed on or after January 2012, a mailer sending an Express Mail item, and requiring the addressee's signature, must instruct USPS to obtain a signature from the addressee upon delivery of the item by checking the “signature required” box on Label 11-B or Label 11-F or indicating signature is requested on single-ply commercial label. If the signature required box is selected, an image of the signature will be provided to mailers when accessing delivery information. A mailer must select signature service for Express Mail Custom Designed Service, Express Mail COD, or Express Mail with additional insurance.

* * * * *

200 Commercial Letters and Cards

* * * * *

210 Express Mail

213 Prices and Eligibility

* * * * *

4.0 Service Features of Express Mail

4.1 General

[Revise the text of current item 4.1 by combining the introductory text and the text of item a, and deleting item b in its entirety as follows:]

Customers may access delivery information at www.usps.com or by calling 1-(800) 222-1811 toll-free and providing the article number. A delivery record, including the addressee's signature, will be faxed or mailed upon request. See 215.2.2 for more information regarding the addressee's signature.

* * * * *

215 Mail Preparation

* * * * *

2.0 Express Mail Next Day and Second Day

* * * * *

2.2 Waiver of Signature

[Revise the first sentence of 2.2 as follows:]

For editions of Express Mail Label 11-B or Label 11-F, Express Mail Post Office to Addressee, printed before January 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber 2.3 as 2.4 and add new 2.3 as follows:]

2.3 Signature Required

For editions of Express Mail Label 11-B or Label 11-F printed on or after January 2012, a mailer sending an Express Mail item, and requiring the addressee's signature, must instruct USPS to obtain a signature from the addressee upon delivery of the item by checking the “signature required” box on Label 11-B or Label 11-F or indicating signature is requested on single-ply commercial label. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

300 Commercial Flats

* * * * *

310 Express Mail

313 Prices and Eligibility

* * * * *

4.0 Service Features of Express Mail

4.1 General

[Revise the current text of 4.1 by combining the introductory text and the text of item a, and deleting item b in its entirety as follows:]

Customers may access delivery information at www.usps.com or by calling 1-(800) 222-1811 toll-free and providing the article number. A delivery record, including the addressee's signature, will be faxed or mailed upon request. See 315.2.2 for more information regarding the addressee's signature.

* * * * *

315 Mail Preparation

* * * * *

2.0 Express Mail Next Day and Second Day

* * * * *

2.2 Waiver of Signature

[Revise the first sentence of 2.2 as follows:]

For editions of Express Mail Label 11-B or Label 11-F, Express Mail Post Office to Addressee, printed before January 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber current item 2.3 as 2.4 and add new 2.3 as follows:]

2.3 Signature Required

For editions of Express Mail Label 11-B or Label 11-F printed on or after January, 2012, a mailer sending an Express Mail item, and requiring the addressee's signature, must instruct USPS to obtain a signature from the addressee upon delivery of the item by checking the “signature required” box on Label 11-B or Label 11-F or indicating signature is requested on single-ply commercial label. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

400 Commercial Parcels

* * * * *

410 Express Mail

413 Prices and Eligibility

* * * * *

4.0 Service Features of Express Mail

4.1 General

[Revise the current text of 4.1 by combining the introductory text and text of item a, and deleting item b in its entirety as follows:]

Customers may access delivery information at http://www.usps.com or by calling 1-(800) 222-1811 toll-free and providing the article number. A delivery record, including the addressee's signature, will be faxed or mailed upon request. See 415.2.2 for more information regarding the addressee's signature.

* * * * *

415 Mail Preparation

* * * * *

2.0 Express Mail Next Day and Second Day

* * * * *

2.2 Waiver of Signature

[Revise the first sentence of 2.2 as follows:]

For editions of Express Mail Label 11-B or Label 11-F, Express Mail Post Office to Addressee, printed before January 2012, a mailer sending an Express Mail item may instruct the USPS to deliver an Express Mail Next Day Delivery or Express Mail Second Day Delivery item without obtaining the signature of the addressee or the addressee's agent by checking and signing the waiver of signature on Label 11-B or Label 11-F, or indicating waiver of signature is requested on single-ply commercial label. * * *

[Renumber 2.3 as 2.4 and add new 2.3 as follows:]

2.3 Signature Required

For editions of Express Mail Label 11-B or Label 11-F printed on or after January 2012, a mailer sending an Express Mail item, and requiring the addressee's signature, must instruct USPS to obtain a signature from the addressee upon delivery of the item by checking the “signature required” box on Label 11-B or Label 11-F or indicating signature is requested on single-ply commercial label. If the signature required box is selected, an image of the signature will be provided when accessing delivery information.

* * * * *

3.0 Express Mail Custom Designed

* * * * *

[Revise the title and text of 3.2 as follows:]

3.2 Signature Required

The addressee's (or agent's) signature is required for all Express Mail Custom Designed service.

* * * * *

500 Additional Mailing Services

503 Extra Services

1.0 Extra Services for Express Mail

1.1 Available Services

* * * * *

1.1.6 COD

[Revise 1.1.6 by adding a new last sentence as follows:]

* * * A signature is required for COD service.

1.1.7 Insurance and Indemnity

Express Mail is insured against loss, damage, or missing contents, subject to these standards:

* * * * *

[Revise item 1.1.7b as follows:]

b. All Express Mail signed for by the addressee or the addressee's agent constitutes a valid delivery, and no indemnity for loss is paid. For Express Mail items not requiring a signature, a delivered scan event constitutes a valid delivery, and no indemnity for loss is paid.

* * * * *

1.1.8 Additional Insurance

[Revise the last sentence of 1.1.8 as follows:]

* * * When “signature required” service is not requested, or when “waiver of signature” is requested additional insurance is not available.

* * * * *

12.0 Collect on Delivery (COD)

* * * * *

12.2 Basic Information

* * * * *

12.2.5 Express Mail COD

[Revise the first sentence of 12.2.5 as follows:]

Any article sent COD also may be sent by Express Mail Next Day and Express Mail Second Day service when a signature is requested. * * *

* * * * *

600 Basic Standards for All Mailing Services

601 Mailability

* * * * *

11.0 Cigarettes and Smokeless Tobacco

* * * * *

11.5 Exception for Business/Regulatory Purposes

* * * * *

11.5.2 Mailing

* * * All mailings under the business/regulatory purposes exception must:

[Revise item 11.5.2a as follows:]

a. Be entered in a face-to-face transaction with a postal employee as Express Mail with Hold For Pickup service (Carrier Pickup service not permitted);

* * * * *

11.6 Exception for Certain Individuals

* * * * *

11.6.2 Mailing

No customer may send or cause to be sent more than 10 mailings under this exception in any 30-day period. Each mailing under the certain individuals exception must:

[Revise item 11.6.2a as follows:]

a. Be entered as Express Mail with an Adult Signature extra service (see 503.8.0), or Express Mail with Hold For Pickup service (Carrier Pickup service not permitted); unless shipped to APO/FPO/DPO addresses under 11.6.4.

* * * * *

11.7 Consumer Testing Exception

* * * * *

11.7.2 Mailing

* * * Mailings must be tendered under the following conditions:

* * * * *

b. All mailings under the consumer testing exception:

[Revise 11.7.2b1 as follows:]

1. Must be entered in face-to-face transactions with postal employees as Express Mail with Hold For Pickup service requested (Carrier Pickup service not permitted);

* * * * *

604 Postage Payment Methods

* * * * *

9.0 Refunds and Exchanges

* * * * *

9.5 Express Mail Postage Refund

* * * * *

9.5.2 Conditions for Refund

[Revise 9.5.2 to change the refund request days from 90 to 30 days, and consolidate the text in the introductory paragraph and items a and b as follows:]

A postage refund request must be made within 30 days after the date of mailing. Except as provided in 114.2.0, 214.3.0, 314.3.0, and 414.3.0, a mailer may file for a postage refund only if the item was not delivered, delivery was not attempted, or if the item was not made available for claim by the delivery date and time specified at the time of mailing.

9.5.3 Refunds Not Given

[Revise the DMM references in 9.5.3 to include 214.3.0 and 314.3.0 as follows:]

A postage refund will not be given if the guaranteed service was not provided due to any of the circumstances in 114.2.0, 214.3.0, 314.3.0, and 414.3.0.

* * * * *

700 Special Standards

703 Nonprofit Standard Mail and Other Unique Eligibility

* * * * *

2.0 Overseas Military Mail

* * * * *

2.6 Express Mail Military Service (EMMS)

* * * * *

[Revise the title and text of 2.6.10 as follows:]

2.6.10 Signature Required

A signature is required for Express Mail Military Service.

* * * * *

We will publish an appropriate amendment to 39 CFR part 111 to reflect these changes.

Stanley F. Mires,
Attorney, Legal Policy & Legislative Advice.

[FR Doc. 2011-30974 Filed 12-1-11; 8:45 am]

BILLING CODE 7710-12-P